DEPARTMENT OF HEALTH AND HUMAN SERVICES

Substance Abuse and Mental Health Services Administration

Fiscal Year (FY) 2002 Funding Opportunities

AGENCY: Substance Abuse and Mental Health Services Administration, HHS.

ACTION: Notice of funding availability.

SUMMARY: The Substance Abuse and Mental Health Services Administration (SAMHSA) Center for Substance Abuse Treatment (CSAT) announces the availability of funds for grants for the following activity. This notice is not a complete description of the activity; potential applicants must obtain a copy of the Guidance for Applicants (GFA), including Part I, A Cooperative Agreement for a Comprehensive Program for Substance Abusing Adults Involved with the Justice System to be Rehabilitated, Provide Restitution to the Community, and have Certain Privileges Restored, and Part II, General Policies and Procedures Applicable to all SAMHSA Applications for Discretionary Grants and Cooperative Agreements, before preparing and submitting an application.

Activity | Application deadline | Est. funds FY 2001 | Est. number of awards | Project period
Rehabilitation & Restitution | November 5, 2001 | $2 million | Two | 5 years.

The actual amount available for the award may vary, depending on unanticipated program requirements and the number and quality of applications received. Amounts may also vary based on appropriations. SAMHSA's policies and procedures for peer review and Advisory Council review of grant and cooperative agreement applications were published in the Federal Register (Vol. 58, No. 126) on July 2, 1993.

General Instructions: Applicants must use application form PHS 5161-1 (Rev. 7/00). The application kit contains the two-part application materials (complete programmatic guidance and instructions for preparing and submitting applications), the PHS 5161-1 which includes Standard Form 424 (Face Page), and other documentation and forms. Application kits may be obtained from: National Clearinghouse for Alcohol and Drug Information (NCADI), P.O. Box 2345, Rockville, MD 20847-2345, Telephone: 1-800-729-6686.

The PHS 5161-1 application form and the full text of the activity are also available electronically via SAMHSA's World Wide Web Home Page: http://www.samhsa.gov

When requesting an application kit, the applicant must specify the particular activity for which detailed information is desired. All information necessary to apply, including where to submit applications and application deadline instructions, are included in the application kit.

Purpose

The Substance Abuse and Mental Health Services Administration's Center for Substance Abuse Treatment announces the availability of funds for cooperative agreements for Program Rehabilitation and Restitution. These cooperative agreements will study the effectiveness of a sophisticated, multi-system program for certain non-violent substance abusing ex-felons to: Improve treatment retention and outcome; reduce the stigma of past substance abuse and non-violent criminal activity by, among other things, increasing the number and percentage of persons who have their non-violent felony records sealed; reduce criminal activity, which reduces victimization; and assist program clients in becoming more fully functioning citizens of the United States.

This cooperative agreement program has been announced in response to the increasingly serious problem of non-violent substance abusing persons becoming involved with the criminal justice system, with that involvement resulting in short and long term consequences detrimental to the substance abuser, her or his family, and society. Funds are primarily available for system coordination, case management and evaluation; only a limited amount can be used for direct services as defined in the announcement.

Funding is limited to applicants in States that have laws permitting the sealing of the records of most convicted, first-time non-violent ex-felons within five years of the end of post-release supervision. This restriction is essential to the basic programmatic concepts being implemented and evaluated. Consequently, CSAT needs to place programs in States where the time period before possible sealing of records is the shortest. Further, time periods longer than five years are not acceptable given the fact the maximum permissible grant award period is five years.

Eligibility

Applications may be submitted by units of State or local government, Indian Tribes, and tribal organizations, and by public and private domestic nonprofit entities such as community-based organizations and faith-based organizations.

Availability of Funds

Subject to the availability of funds, it is estimated that $2,000,000 will be available to support two awards under this program in fiscal year 2002.

Period of Support

Support may be requested for a period of up to five years. Annual awards will be made subject to continued availability of funds and progress achieved. After the five year period, depending upon the availability of funds, supplemental awards, for purposes of supporting evaluation, may become available. The applicant should not request supplemental awards in their applications responding to this announcement.

Criteria for Review and Funding

General Review Criteria

Competing applications requesting funding under this activity will be reviewed for technical merit in accordance with established PHS/SAMHSA peer review procedures. Review criteria that will be used by the peer review groups are specified in the application guidance material.

Award Criteria for Scored Applications

Applications will be considered for funding on the basis of their overall technical merit as determined through the peer review group and the appropriate National Advisory Council review process. Availability of funds will also be an award criteria. Additional award criteria specific to the programmatic activity may be included in the application guidance materials.

Catalog of Federal Domestic Assistance Number

93.230

Program Contact

For questions concerning program issues, contact: Bruce Fry, Division of Practice and Systems Development, CSAT/SAMHSA, Rockwall II, Suite 740, 5600 Fishers Lane, Rockville, MD 20857, (301) 443-0128, E-mail: Bfry@samhsa.gov.

For questions regarding grants management issues, contact: Kathleen Sample, Division of Grants Management, OPS/SAMHSA, Rockwall II, 6th floor, 5600 Fishers Lane, Rockville, MD 20857, (301) 443-9667, E-Mail: ksample@samhsa.gov.

Public Health System Reporting Requirements

The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2002 activity is subject to the Public Health System Reporting Requirements.

PHS Non-Use of Tobacco Policy Statement

The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372

Applications submitted in response to the FY 2002 activity listed above are subject to the intergovernmental review requirements of Executive Order 12372, as implemented through DHHS regulations at 45 CFR Part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: August 7, 2001.
Richard Kopanda,
Executive Officer, SAMHSA.

[FR Doc. 01-20163 Filed 8-10-01; 8:45 am]

BILLING CODE 4162-20-P